DEPARTMENT OF TRANSPORTATION

Federal Aviation Administration

14 CFR Part 39

[Docket No. 2002-NM-10-AD; Amendment 39-13156; AD 2003-10-11]

RIN 2120-AA64

Airworthiness Directives; Boeing Model 767-200 and -300 Series Airplanes

AGENCY: Federal Aviation Administration, DOT.

ACTION: Final rule.

SUMMARY: This amendment supersedes an existing airworthiness directive (AD), applicable to certain Boeing Model 767-200 and -300 series airplanes, that currently requires repetitive inspections to find discrepancies of the barrel nuts that attach the vertical fin to body section 48, and follow-on actions. For certain airplanes, the existing AD requires replacement of certain bolts with new bolts. The existing AD also provides for optional terminating actions for the repetitive inspections. This amendment reduces the compliance time for the inspections; changes the torque specification; and mandates eventual replacement of all H-11 steel alloy barrel nuts and bolts with Inconel nuts and bolts, which ends the repetitive inspections. The actions specified by this AD are intended to find and fix corroded, cracked, or broken barrel nuts that attach the vertical fin to body section 48, which could result in reduced structural integrity of the vertical fin attachment joint, loss of the vertical fin, and consequent loss of controllability of the airplane. This action is intended to address the identified unsafe condition.

DATES: Effective July 1, 2003.

The incorporation by reference of Boeing Service Bulletin 767-53A0085, Revision 2, dated May 2, 2002; and Boeing Service Bulletin 767-53A0085, Revision 3, dated November 21, 2002; as listed in the regulations; is approved by the Director of the Federal Register as of July 1, 2003.

The incorporation by reference of Boeing Service Bulletin 767-53-0085, dated May 14, 1998; and Boeing Alert Service Bulletin 767-53A0085, Revision 1, dated July 1, 1999; as listed in the regulations; was approved previously by the Director of the Federal Register as of October 9, 2001 (66 FR 48538, September 21, 2001).

ADDRESSES: The service information referenced in this AD may be obtained from Boeing Commercial Airplane Group, P.O. Box 3707, Seattle, Washington 98124-2207. This information may be examined at the Federal Aviation Administration (FAA), Transport Airplane Directorate, Rules Docket, 1601 Lind Avenue, SW., Renton, Washington; or at the Office of the Federal Register, 800 North Capitol Street, NW., Suite 700, Washington, DC.

FOR FURTHER INFORMATION CONTACT: Suzanne Masterson, Aerospace Engineer, Airframe Branch, ANM-120S, FAA, Seattle Aircraft Certification Office, 1601 Lind Avenue, SW., Renton, Washington 98055-4056; telephone (425) 917-6441; fax (425) 917-6590.

SUPPLEMENTARY INFORMATION: A proposal to amend part 39 of the Federal Aviation Regulations (14 CFR part 39) by superseding AD 2001-19-04, amendment 39-12444 (66 FR 48538, September 21, 2001), which is applicable to certain Boeing Model 767-200 and -300 series airplanes, was published in the Federal Register on August 16, 2002 (67 FR 53529). The action proposed to continue to require repetitive inspections to find discrepancies of the barrel nuts that attach the vertical fin to body section 48, and follow-on actions. For certain airplanes, the action proposed to continue to require replacement of certain bolts with new bolts. The action also proposed to continue to provide for optional terminating actions for the repetitive inspections. The new action proposed to reduce the compliance time for the inspections; change the torque specification; and mandate eventual replacement of all H-11 steel alloy barrel nuts and bolts with Inconel nuts and bolts, which would end the repetitive inspections.

Comments

Interested persons have been afforded an opportunity to participate in the making of this amendment. Due consideration has been given to the comments received.

Request To Reference Revision 3 of the Service Bulletin

One commenter, the manufacturer, states that it is in the process of issuing Boeing Service Bulletin 767-53A0085, Revision 3 (Boeing Service Bulletin 767-53A0085, Revision 2, dated May 2, 2002, was referenced in the proposed AD as the source of service information for accomplishment of certain actions). The commenter would like the FAA to review Revision 3 and add it to the proposed AD. The commenter states that the changes in Revision 3 will correct the compliance statement specified in Revision 2 to align it with the proposed AD, and will also update the tooling information specified in Revision 2.

The FAA has reviewed and approved Boeing Service Bulletin 767-53A0085, Revision 3, dated November 21, 2002. We find that the changes incorporated in Revision 3 of the service bulletin are not substantive, meaning that airplanes modified per Boeing Service Bulletin 767-53-0085, dated May 14, 1998; Revision 1, dated July 1, 1999; or Revision 2, dated May 2, 2002; are not subject to any additional work under Revision 3 of the service bulletin. Revision 3 specifies a minor change to the compliance time recommended in Revision 2, but we have already extended the compliance time in this final rule, in order to avoid undue hardship on operators, per a comment we received (see discussion below). We have added Revision 3 of the service bulletin to this final rule as another source of service information for the accomplishment of certain actions.

Request To Add Credit Note for Terminating Action

Several commenters ask that a credit note be added for previous accomplishment of the replacements required by paragraph (e) of the proposed AD per Boeing Service Bulletin 767-53-0085, dated May 14, 1998; or Boeing Alert Service Bulletin 767-53A0085, Revision 1, dated July 1, 1999. One commenter would like credit to be given regardless of the revision level of the service bulletin, or any other approved maintenance procedures used to do the replacements, including the use of the production drawing. One commenter asks that credit be given for the replacements (terminating action) required by paragraph (e) of the proposed AD that were done before the required inspections and before the effective date of the AD.

We partially agree with the commenters' requests, as follows.

We agree that there are no significant changes among Boeing Service Bulletin 767-53-0085, dated May 14, 1998; Boeing Alert Service Bulletin 767-53A0085, Revision 1, dated July 1, 1999; and Boeing Service Bulletin 767-53A0085, Revision 2, dated May 2, 2002; for the bolt and barrel nut installation method. Therefore, we have added the original issue and Revision 1 of the service bulletin as additional sources of service information for accomplishment of the terminating action required by paragraph (f) of this final rule (paragraph (e) of the proposed AD). In addition, credit is given as allowed by the phrase, “unless accomplished previously,” and if the terminating action has already been accomplished per any of the service bulletin revisions specified in the final rule, this AD does not require that it be repeated.

We do not agree to give credit regardless of the revision level of the service bulletin, or any approved procedures including the production drawing because they are not FAA-approved. To use the phrase, “or later FAA-approved revisions,” in an AD when referring to the service document, violates Office of the Federal Register (OFR) regulations regarding approval of materials “incorporated by reference” in rules. In general terms, these OFR regulations require that either the service document contents be published as part of the actual AD language; or the service document be submitted for approval by the OFR as “referenced” material, in which case it may be only referred to in the text of an AD. The AD may refer only to the service document that was submitted and approved by the OFR for “incorporation by reference.” In order for operators to use later revisions of the referenced document (issued after the publication of the AD), either the AD must be revised to reference the specific later revisions, or operators must request the approval of the use of them as an alternative method of compliance with this AD under the provisions of paragraph (h)(1) of this final rule.

Requests To Change Paragraph (d)

Two commenters ask that paragraph (d) of the proposed AD be changed to specify that the new inspections are not required at the fastener locations where the H-11 steel bolts and nuts have been replaced with Inconel bolts and nuts.

We agree with the commenters. We have changed paragraph (d) of this final rule, for clarification, to specify inspection of only the locations having “H-11 steel alloy bolts and nuts.”

Two commenters ask that paragraph (d) of the proposed AD be changed for clarification. One commenter states that paragraph (d) specifies doing internal and external inspections and a torque check within 18 months after doing the initial inspections required by paragraph (a) of the existing AD, or within 90 days after the effective date of the AD. The commenter notes that it already performed the inspections required by paragraph (a) on two of its airplanes per Boeing Alert Service Bulletin 767-53A0085, Revision 1, dated July 1, 1999, and adds that the repeat inspections were done in the first half of 2002. The commenter asks that paragraph (d) be changed to specify, “Within 18 months after the doing initial or the last repeated inspections required by paragraphs (a) and (b) * * *.” Another commenter asks that “until paragraph (e) of this AD is done,” be added at the end of the compliance time specified in paragraph (d) of the proposed AD.

We agree with the commenters to some extent. We have extended the compliance time specified in paragraph (d) of this final rule, per another comment (discussed below), to specify, “Within 36 months after the last inspections done per paragraphs (a) and (b) of this AD * * *.” However, paragraph (d) of this final rule already specifies that the inspections are repeated until accomplishment of paragraph (f) of the AD, so no change is necessary in this regard.

Request To Change Compliance Time

One commenter asks that the compliance time specified in paragraph (d) of the proposed AD be changed to, “Within 36 months after the initial inspections required by paragraph (a) of this AD or by June 2003, whichever is later.” The commenter states that the current compliance wording in paragraph (d) would result in inspecting its 28 airplanes within 90 days, which would require taking those airplanes out-of-service to do the inspections. The commenter adds that the inspections could be done on an overnight visit, but any findings would require replacement of the barrel nut/bolt. The commenter notes that replacement at a field station is not practical due to the tooling involved and the need to ensure the safety of personnel, as there have been reports of injuries while removing/replacing barrel nuts using tooling other than a torque multiplier.

We partially agree with the commenter. We do not agree to use a calendar date in the AD because the compliance time in this case is a function of fleet utilization, which is unrelated to calendar dates. However, we do agree to change the compliance time required by paragraph (d) of the final rule somewhat to avoid undue hardship on operators. Increasing the compliance time to, “Within 36 months after the last inspections done per paragraphs (a) and (b) of this AD, or within 180 days after the effective date of this AD, whichever is later,” will provide an acceptable level of safety. Paragraph (d) of this final rule has been changed accordingly.

Another commenter asks that the compliance time specified in paragraph (d) of the proposed AD be changed to “Within 18 months after the last inspection done per maintenance planning document (MPD) Items 5380-311-02I and 5380-312-02I. The commenter states that paragraph (d) should clearly identify airplanes that would require the 90-day compliance time, and adds that, under the new requirements, it appears that the airplanes on which the MPD inspections specified in paragraph (a) of the proposed AD were done would require that the inspections specified in paragraph (d) be done within 90 days.

We do not agree with the commenter. We have determined that the MPD inspections were inadequate and did not detect corroded barrel nuts and bolts. Operators have reported finding cracked bolts that passed the 2,000-inch pound torque check specified in MPD Items 5380-311-02I and 5380-312-02I. The MPD inspections are inadequate because they do not include a visual inspection of the barrel nut holes for sealant damage or signs of corrosion. Therefore, the compliance time cannot be changed to include inspections done per the MPD; however, the compliance time in paragraph (d) of this final rule has been changed somewhat for clarification, per another comment discussed previously.

Request To Change Cost Impact Section

One commenter asks that the Cost Impact section of the proposed AD be changed. The commenter states that the hours required to do the actions, as specified in the referenced service bulletin, should be changed to show a more accurate cost impact. The commenter also states that the hours required for inspections and torque checks, and for the replacement of the 16 vertical stabilizer attachment nuts and bolts, as listed in the referenced service bulletin, are not sufficient. The commenter adds that an experienced crew with adequate tooling would require 24 work hours to do the replacement, and estimates the total work hours for replacement to be approximately 72 work hours. The commenter also adds that the rental cost of tooling would be $12,051 per day. The commenter states that the proposed AD should be changed to reflect the significant cost of the tooling required to do the replacement.

We do not agree with the commenter. The cost impact information describes only the costs of the specific actions required by this AD. The number of work hours necessary to accomplish the actions, specified in the cost impact information, was provided by the manufacturer based on the best data available to date. This number represents the time necessary to perform only the actions actually required by this AD. We recognize that, in accomplishing the requirements of any AD, operators may incur “incidental” costs in addition to the “direct” costs. The cost analysis in AD rulemaking actions, however, typically does not include incidental costs, such as tooling costs, the time required to gain access and close up, planning time, or time necessitated by other administrative actions. Because incidental costs may vary significantly from operator to operator, they are almost impossible to calculate. No change to the final rule is necessary in this regard.

Additional Changes to Final Rule

We have removed the reference to replacement of “all 16” H-11 steel bolts specified in paragraph (f) of this final rule (paragraph (e) of the proposed AD), as some of the replacements may have been made before the effective date of this final rule. Paragraph (f) now specifies replacement of “all” H-11 steel bolts.

There is a typographical error in the reference to the Maintenance Planning Document (MPD) Item numbers specified in paragraphs (a)(1) and (a)(2) of AD 2001-19-04 and restated in the proposed AD. MPD Items 5380-311-021 and 5380-312-021, as specified in both paragraphs, should be referenced as MPD Items 5380-311-02I and 5380-312-02I. Paragraphs (a)(1) and (a)(2) of this final rule have been changed accordingly.

Paragraph (g)(2) of the proposed AD (paragraph (h)(2) of this final rule) should have included a reference to paragraphs (a) and (b) in the approval of previously granted alternative methods of compliance with AD 2001-19-04, amendment 39-12444. Paragraph (h)(2) of this final rule has been changed accordingly.

Because the language in Note 3 of the proposed AD is regulatory in nature, that note has been redesignated as paragraph (e) of this final rule, and subsequent paragraphs have been reordered accordingly.

Conclusion

After careful review of the available data, including the comments noted above, the FAA has determined that air safety and the public interest require the adoption of the rule with the changes previously described. The FAA has determined that these changes will neither increase the economic burden on any operator nor increase the scope of the AD.

Cost Impact

There are approximately 549 airplanes of the affected design in the worldwide fleet. The FAA estimates that 221 airplanes of U.S. registry will be affected by this AD.

The actions that are currently required by AD 2001-19-04 take approximately 2 work hours per airplane to accomplish, at an average labor rate of $60 per work hour. Based on these figures, the cost impact of the currently required actions is estimated to be $120 per airplane.

The inspections that are required in this AD action take approximately 1 work hour per airplane to accomplish, at an average labor rate of $60 per work hour. Based on these figures, the cost impact of the inspections on U.S. operators is estimated to be $13,260, or $60 per airplane.

The replacement that is required in this AD action takes approximately 8 work hours per airplane to accomplish, at an average labor rate of $60 per work hour. Required parts will cost approximately $6,528 per airplane. Based on these figures, the cost impact of the replacement on U.S. operators is estimated to be $1,548,768, or $7,008 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12444 (66 FR 48538, September 21, 2001), and by adding a new airworthiness directive (AD), amendment 39-13156, to read as follows:

2003-10-11 Boeing: Amendment 39-13156. Docket 2002-NM-10-AD. Supersedes AD 2001-19-04, Amendment 39-12444.

Applicability: Model 767-200 and -300 series airplanes, line numbers 1 through 574 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (h)(1) of this AD. The request should include an assessment of the effect of the modification, alteration, or repair on the unsafe condition addressed by this AD; and, if the unsafe condition has not been eliminated, the request should include specific proposed actions to address it.

Compliance: Required as indicated, unless accomplished previously.

To find and fix corroded, cracked, or broken barrel nuts that attach the vertical fin to body section 48, which could result in reduced structural integrity of the vertical fin attachment joint, loss of the vertical fin, and consequent loss of controllability of the airplane; accomplish the following:

Restatement of Requirements of AD 2001-19-04

Internal/External Detailed Inspections

(a) Do internal and external detailed inspections of the barrel nuts at the 16 locations that attach the vertical fin to body section 48 to find discrepancies (i.e., cracked or damaged sealant, signs of corrosion damage, cracked or broken barrel nuts). Do the inspections at the times specified in paragraphs (a)(1) and (a)(2) of this AD, as applicable; per Part 1 of the Accomplishment Instructions of Boeing Service Bulletin 767-53-0085, dated May 14, 1998; Boeing Alert Service Bulletin 767-53A0085, Revision 1, dated July 1, 1999; or Boeing Service Bulletin 767-53A0085, Revision 2, dated May 2, 2002.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) For airplanes on which the inspections specified in paragraph (a) of this AD have been done within the last 3 years per Boeing 767 Maintenance Planning Document (MPD) D622T001, Items 5380-311-02I and 5380-312-02I: Do the inspections at the later of the times specified in paragraphs (a)(1)(i) and (a)(1)(ii) of this AD.

(i) Within 3 years or 6,000 flight cycles after doing the most recent inspection per the MPD, whichever comes first.

(ii) Within 45 days after October 9, 2001 (the effective date AD 2001-19-04, amendment 39-12444).

(2) For airplanes on which the inspections specified in paragraph (a) of this AD have not been done within the last 3 years per Boeing 767 MPD D622T001, Items 5380-311-02I and 5380-312-02I: Do the inspections within 45 days after October 9, 2001.

Follow-On Actions

(b) If no discrepancy is found during any inspection specified in paragraph (a) of this AD: Before further flight, do a torque check of each of the 16 bolts in the barrel nuts that attach the vertical fin to body section 48 to determine if any bolt turns, per Part 2 of the Accomplishment Instructions of Boeing Service Bulletin 767-53-0085, dated May 14, 1998; Boeing Alert Service Bulletin 767-53A0085, Revision 1, dated July 1, 1999; or Boeing Service Bulletin 767-53A0085, Revision 2, dated May 2, 2002.

(1) If no bolt turns: Repeat the inspections required by paragraph (a) of this AD (and applicable follow-on actions) every 3 years or 6,000 flight cycles, whichever comes first; until paragraphs (d) and (e) of this AD are done.

(2) If any bolt turns: Before further flight, do the actions specified in paragraphs (b)(2)(i) and (b)(2)(ii) of this AD, as applicable. Then repeat the inspections required by paragraph (a) of this AD (and applicable follow-on actions) every 3 years or 6,000 flight cycles, whichever comes first; until paragraphs (d) and (e) of this AD are done.

(i) For all airplanes: Replace the barrel nut at that bolt with a new, Inconel barrel nut per Part 3 of the Accomplishment Instructions of the service bulletin. No further action is required for that barrel nut only.

(ii) For Group 1 airplanes: If an H-11 steel alloy bolt is installed with the affected barrel nut, replace the bolt with a new, Inconel bolt per Figure 5 of the Accomplishment Instructions of the service bulletin. No further action is required for that bolt only.

(c) If any discrepancy of any barrel nut is found during any inspection specified in paragraph (a) or (d) of this AD: Before further flight, do the actions specified in paragraphs (c)(1) and (c)(2) of this AD, as applicable.

(1) For all airplanes: Replace the affected barrel nut with a new, Inconel barrel nut per Part 3 of the Accomplishment Instructions of Boeing Service Bulletin 767-53-0085, dated May 14, 1998; Boeing Alert Service Bulletin 767-53A0085, Revision 1, dated July 1, 1999; or Boeing Service Bulletin 767-53A0085, Revision 2, dated May 2, 2002. No further action is required for that barrel nut only.

(2) For Group 1 airplanes: If an H-11 steel alloy bolt is installed with the affected barrel nut, replace the bolt with a new, Inconel bolt per Figure 5 of the Accomplishment Instructions of the service bulletin. No further action is required for that bolt only.

New Requirements of This AD

Detailed Inspection/Torque Check

(d) Within 36 months after the last inspections done per paragraphs (a) and (b) of this AD, or within 180 days after the effective date of this AD, whichever is later: Do internal and external detailed inspections and a torque check (between 3,700 and 4,100 inch-pounds of torque) of the 16 locations that attach the vertical fin to body section 48, and that have H-11 steel alloy barrel nuts or bolts, to find discrepancies (i.e., cracked or damaged sealant, signs of corrosion damage, and cracked or broken barrel nuts), per Boeing Service Bulletin 767-53A0085, Revision 2, dated May 2, 2002; or Revision 3, dated November 21, 2002. Repeat the inspections and check after that at least every 18 months until paragraph (f) of this AD is done.

Credit for Actions Done Previously

(e) Accomplishment of inspections and torque checks before the effective date of this AD per Boeing Service Bulletin 767-53-0085, dated May 14, 1998; or Boeing Alert Service Bulletin 767-53A0085, Revision 1, dated July 1, 1999; is considered acceptable for compliance with the applicable actions specified in paragraphs (a) and (b) of this AD only.

Terminating Action

(f) Within 36 months after the effective date of this AD: Replace all H-11 steel alloy barrel nuts and bolts that attach the vertical fin to body section 48 with Inconel barrel nuts and bolts, per Boeing Service Bulletin 767-53-0085, dated May 14, 1998; Boeing Alert Service Bulletin 767-53A0085, Revision 1, dated July 1, 1999; Boeing Service Bulletin 767-53A0085, Revision 2, dated May 2, 2002; or Revision 3, dated November 21, 2002. Such replacement ends the repetitive inspections required by this AD.

Part Installation

(g) As of the effective date of this AD: No person shall install, on any airplane, an Inconel vertical fin attach bolt, unless an Inconel barrel nut is installed at the same location; nor shall any person install an H-11 steel alloy attachment nut or bolt on the vertical fin on any airplane.

Alternative Methods of Compliance

(h)(1) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

(2) Alternative methods of compliance, approved previously in accordance with AD 2001-19-04, amendment 39-12444, are approved as alternative methods of compliance with paragraphs (a) and (b) of this AD.

Note 3: Information concerning the existence of approved alternative methods of compliance with this AD, if any, may be obtained from the Seattle ACO.

Special Flight Permits

(i) Special flight permits may be issued in accordance with sections 21.197 and 21.199 of the Federal Aviation Regulations (14 CFR 21.197 and 21.199) to operate the airplane to a location where the requirements of this AD can be accomplished.

Incorporation by Reference

(j) Unless otherwise specified in this AD, the actions shall be done in accordance with Boeing Service Bulletin 767-53-0085, dated May 14, 1998; Boeing Alert Service Bulletin 767-53A0085, Revision 1, dated July 1, 1999; Boeing Service Bulletin 767-53A0085, Revision 2, dated May 2, 2002; or Boeing Service Bulletin 767-53A0085, Revision 3, dated November 21, 2002; as applicable.

(1) The incorporation by reference of Boeing Service Bulletin 767-53A0085, Revision 2, dated May 2, 2002; and Boeing Service Bulletin 767-53A0085, Revision 3, dated November 21, 2002; is approved by the Director of the Federal Register in accordance with 5 U.S.C. 552(a) and 1 CFR part 51.

(2) The incorporation by reference of Boeing Service Bulletin 767-53-0085, dated May 14, 1998; and Boeing Alert Service Bulletin 767-53A0085, Revision 1, dated July 1, 1999; was approved previously by the Director of the Federal Register as of October 9, 2001 (66 FR 48538, September 21, 2001).

(3) Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., Suite 700, Washington, DC.

Effective Date

(k) This amendment becomes effective on July 1, 2003.

Issued in Renton, Washington, on May 16, 2003.
Vi L. Lipski,
Manager, Transport Airplane Directorate, Aircraft Certification Service.

[FR Doc. 03-12844 Filed 5-23-03; 8:45 am]

BILLING CODE 4910-13-P